DEPARTMENT OF EDUCATION

Withdrawal of Notice Inviting Applications (NIA) and Cancellation of the Competition for the Native Hawaiian Career and Technical Education Program (NHCTEP)

AGENCY: Office of Career, Technical, and Adult Education, Department of Education.

ACTION: Notice; withdrawal.

SUMMARY: The Department of Education (Department) withdraws the NIA for fiscal year (FY) 2025 for NHCTEP Grants.

DATES: The NIA published in the Federal Register on January 8, 2025 (90 FR 1462), is withdrawn and the competition cancelled as of May 7, 2025.

FOR FURTHER INFORMATION CONTACT: Patti Beltram, Ed.D., U.S. Department of Education, 400 Maryland Avenue SW, Room 4A115, Washington, DC 20202. Telephone: (202) 987-1370. Email: NHCTEP@ed.gov.

If you are deaf, hard of hearing, or have a speech disability and wish to access telecommunications relay services, please dial 7-1-1.

SUPPLEMENTARY INFORMATION: On January 8, 2025, the Department published an NIA for the NHCTEP program in the Federal Register. The Department is withdrawing this NIA as part of a comprehensive review of recently published FY 2025 NIAs. This reevaluation seeks to ensure that all priorities and requirements for the Department's FY 2025 competitions align with the objectives established by the Trump Administration while fostering consistency across all grant programs. Additionally, the Department is dedicated to optimizing the impact of our grant competitions on students and families, as well as enhancing the economic effectiveness of Federal education funding. The Department will dedicate available funds to support current NHCTEP grantee activities authorized under this program.

Intergovernmental Review: This program is subject to Executive Order 12372 and the regulations in 34 CFR part 79.

Accessible Format: On request to the program contact person listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Nicholas Moore,
Deputy Assistant Secretary and Acting Assistant Secretary for Career, Technical, and Adult Education.

[FR Doc. 2025-07958 Filed 5-6-25; 8:45 am]

BILLING CODE 4000-01-P